Title 3—

The President

Proclamation 9120 of May 9, 2014

National Defense Transportation Day and National Transportation Week, 2014

By the President of the United States of America

A Proclamation

In today's global economy, first-class jobs gravitate to first-class infrastructure. A sound transportation system allows businesses to safely move their goods to market, and maintaining that system creates jobs upgrading ports, unclogging commutes, and repairing roads and rails. During National Defense Transportation Day and National Transportation Week, we underscore the importance of infrastructure to our economy, security, and way of life.

This summer, the Congress will need to protect more than three million jobs by finishing transportation and waterways bills that provide at least 4 years of funding for extensive infrastructure repairs and investments. Because accessible roads, safe bridges, and good jobs should transcend politics, I am hopeful our representatives will do right by the American people. In the meantime, I am taking executive action to slash bureaucracy and streamline the permitting process for key projects. Earlier this year, I launched a competition for 600 million dollars in transportation grants. Cities and States can win this funding by creating plans that both modernize transportation infrastructure and stimulate the economy.

Infrastructure also plays a vital role in America's security. Fluid, dependable, and efficient transportation systems allow first responders and service members to swiftly arrive on the scene of an emergency. When natural disasters strike, we rely on these systems to bring food and first aid to victims. In order to safeguard our Nation, we must ensure our infrastructure is resilient enough to withstand disaster and keep supply lines open.

Today, America has ports that are not prepared for the next generation of supertankers. We have more than 100,000 bridges that are old enough to qualify for Medicare. And we have a world-class labor force ready to tackle this challenge. Let's put them to work.

In recognition of the importance of our Nation's transportation infrastructure, and of the men and women who build, maintain, and utilize it, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 16, 2014, as National Defense Transportation Day and May 11 through May 17, 2014, as National Transportation Week. I call upon all Americans to recognize the importance of our Nation's transportation infrastructure and to acknowledge the contributions of those who build, operate, and maintain it.

IN WITNESS WHEREOF, I have hereunto set my hand this ninth day of May, in the year of our Lord two thousand fourteen, and of the Independence of the United States of America the two hundred and thirty-eighth.

[FR Doc. 2014-11303

Filed 5-13-14; 11:15 am]

Billing code 3295-F4